DEPARTMENT OF JUSTICE

Antitrust Division

Notice Pursuant to the National Cooperative Research and Production Act of 1933—Wireless Application Protocol Forum, Ltd.

Notice is hereby given that, on January 8, 2001, pursuant to Section 6(a) of the National Cooperative Research and Production Act of 1933, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, Air-Go Technologies Corp., San Francisco, CA; APAS Inc., Tokyo, Japan; Apollis AG, Munchen, Germany; Arcot Systems, Inc., Santa Clara, CA; Banksys, Brussels, Belgium; Blue Martini Software, San Mateo, CA; Cherrypicks, Hong Kong, Hong Kong-China; Civista Ltd., Tolworth, England, United Kingdom; ClientSoft Inc., Hawthorne, NY; Columbitech AB, Stockholm, Sweden; Digital Boardwalk, Inc., Santa Monica, CA; EncrypTix, Inc., El Segundo, CA;' Equifax, Atlanta, GA; India's Wireless internet Initiative (IWIN), Bangalore, India; Intergraph Corporation, Inc., Huntsville, AL; Inventec Electronics (Shanghai) Co., Ltd., Shanghai, People's Republic of China; KPMG Consulting LLC, McLean, VA; Leap Corporation, Atlanta, GA; Lightbridge, Inc., Burlington, MA; Logical Design Solutions, Inc., Morristown, NJ; mCentric Ltd., London, England, United Kingdom; Mgage Systems AB, Stockholm, Sweden; MobileRAIN Technologies, Inc., Union City, CA; MobileWebSurf.com, Milpitas, CA; Mspect, Inc., Sunnyvale, CA; Netfish Technologies, Inc., Santa Clara, CA; Netonomy, Paris, France; NextCom K.K., Tokyo, Japan; Nextron, Inc., San Jose, CA; Orsus Solutions Ltd., Or Yehuda, Israel; pacific21 Ltd., London, England, United Kingdom; Partner Communications Co. Ltd., Rosh Ha'ayin, Israel; Pivotal Corporation, North Vancouver, British Columbia, Canada; Plexus Technologies, San Jose, CA; Probaris Technologies, Inc., Philadelphia, PA; Purple Technologies Ltd., London, England, United Kingdom; Radio Frequency Investigation Ltd., Hants, England, United Kingdom; Ripcord Systems Inc., London, England, United Kingdom; SANYO Electric Co., Ltd., Osaka, Japan; SecureSoft Inc., Seoul, Republic of Korea; Shenzhen New World Xianglong, Shen Zhen, Guangdong Province, People's Republic of China; Sinotone Datacom Ltd., Hong Kong, Hong Kong-China; SkyGo.com, Redwood City, CA; Smart421, Herts, England, United Kingdom; Soprano Design Pty Ltd, North Sydney, New South Wales, Australia; SPEEDWARE Corporation, St. Laurent, Quebec, Canada; Synapta, Palo Alto, CA; Synovial Inc., Fremont, CA; Telephia, Inc., San Francisco, CA; The PhonePages of Sweden AB, Kista, Sweden; UltiVerse Technologies, Inc., Waltham, MA; Vettro Corporation, New York, NY; Wiral Ltd., Espoo, Findland; Wmode, Inc., Calgary, Alberta, Canada; WorldCom, Clinton, MS; YacCom, Rennes, France; ZoomON AB, Stockholm, Sweden; and Zurcher Kantonalbank, Zurich, Switzerland have been added as parties to this venture.

No other changes have been made in either the membership or planned activity of the group research project. Membership in this group research project remains open,and WAP intends to file additional written notifications disclosing all changes in membership.

On March 18, 1998, WAP filed its original notification pursuant to Section 6(a) of the Act. The Department of Justice published a notice in the Federal Register pursuant to Section 6(b) of the Act on December 31, 1998 (63 FR 72333).

The last notification was filed with the Department on October 3, 2000. A notice was published in the Federal Register pursuant to Section 6(b) of the Act on December 29, 2000 (65 FR 83096).

Constance K. Robinson,
Director of Operations, Antitrust Division.

[FR Doc. 01-11126 Filed 5-2-01; 8:45 am]

BILLING CODE 4481-11-M